FEDERAL COMMUNICATIONS COMMISSION

[OMB 3060-0508; FR ID 43942]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written PRA comments should be submitted on or before October 22, 2021. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION: OMB Control Number: 3060-0508.

Title: Parts 1 and 22 Reporting and Recordkeeping Requirements.

Form Number: Not applicable.

Type of Review: Revision of a currently approved collection.

Respondents: Business or other for-profit entities, Individuals or households, and State, Local or Tribal Governments.

Number of Respondents and Responses: 15,448 respondents; 16,166 responses.

Estimated Time per Response: 0.13 hours-10 hours.

Frequency of Response: Recordkeeping requirement; On occasion, quarterly, and semi-annual reporting requirements; Third-party disclosure requirement.

Obligation to Respond: Required to obtain or retain benefits. The statutory authority for this collection is contained in 47 U.S.C. 154, 222, 303, 309 and 332.

Total Annual Burden: 2,579 hours.

Annual Cost Burden: $19,116,900.

Needs and Uses: On August 16, 2013, the Federal Communications Commission (Commission) released a Third Report and Order (FCC 13-115) in MM Docket No. 93-177 to harmonize and streamline its rules regarding tower construction near AM stations. The reforms included establishing a single protection scheme for tower construction and modification near AM tower arrays. The Commission's rules previously contained several sections in different rule parts that addressed tower construction near AM antennas and were intended to protect AM stations from the effects of such tower construction, including (among others not relevant here), 47 CFR 22.371. With adoption of this Order, 47 CFR 22.371 was removed and was replaced by a new rule, 47 CFR 1.30002, which is not covered by this Supporting Statement.

On November 10, 2014, the Commission released a Report and Order and Further Notice of Proposed Rulemaking (FCC 14-181) in WT Docket No. 12-40 to reform its rules governing the 800 MHz Cellular Radiotelephone (Cellular) Service. In the Report and Order (Cellular R&O), the Commission changed the Cellular licensing model from site-based to geographic-based. The revised Cellular Service licensing model entailed eliminating several filing requirements that had outlived their usefulness in this mature commercial wireless service that was launched in the early 1980s; it also streamlined application content requirements, and deleted obsolete provisions associated with the legacy site-based regime.

Subsequently, on March 24, 2017, the Commission released a Second Report and Order in that same docket (Cellular Second R&O), together with a companion Report and Order in WT Docket No. 10-112 concerning the Wireless Radio Services (WRS), which include the Cellular Service among others (WRS R&O) (FCC 17-27). The Cellular Second R&O and WRS R&O revised or eliminated certain licensing rules and modernized outdated radiated power and other technical rules applicable to the Cellular Service. As part of FCC 17-27, the Commission also released a Second Further Notice of Proposed Rulemaking in which it sought comment on deleting certain recordkeeping and administrative rules applicable to the Public Mobile Services (including the Cellular Service), which are governed by Part 22 of the Commission's rules.

On July 13, 2018, the Commission released a Third report and Order in the Cellular Reform proceeding (Cellular 3d R&O) (FCC 18-92), in which it deleted certain Part 22 rules that either imposed administrative and recordkeeping burdens that are outdated and no longer serve the public interest, or that are largely duplicative of later-adopted rules and are thus no longer necessary. Among the rule deletions and of relevance to this information collection, the Commission deleted rule section 22.303, resulting in discontinued information collection for that rule section.

The Commission is now seeking approval from the Office of Management and Budget (OMB) for a revision of this information collection.

Federal Communications Commission.
Katura Jackson,
Federal Register Liaison Officer.

[FR Doc. 2021-18076 Filed 8-20-21; 8:45 am]

BILLING CODE 6712-01-P